ADVISORY COUNCIL ON HISTORIC PRESERVATION

Notice of Meeting

AGENCY: Advisory Council on Historic Preservation.

SUMMARY: Notice is hereby given that the Advisory Council on Historic Preservation (ACHP) will meet on Friday, August 5, 2005. The meeting will be held in the Grand Orrington Ballroom, Second Floor, Hotel Orrington, 710 Orrington Avenue, Evanston, Illinois, beginning at 12:15 p.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native American; and eight non-Federal members appointed by the President.

The agenda for the meeting includes the following:

I. Chairman's Welcome

II. Chairman's Awards Presentation

III. Consideration of Actions to Address Historic Preservation Issues in the Base Realignment and Closure Process

IV. Report of the Preservation Initiatives Committee

A. Heritage Tourism Initiative

B. Historic Preservation Tax Issues

C. National Heritage Areas Legislation

V. Report of the Federal Agency Programs Committee

A. ACHP Report to the President Under Executive Order 13287

B. Section 106 Case Update

VI. Report of the Communications, Education, and Outreach Committee

A. Preserve America Presidential Awards for 2006

B. 40th Anniversary of the NHPA and the ACHP

VII. Report of the Native American Advisory Group

VIII. Report of the Archaeology Task Force

IX. Report of the Affordable Housing and Historic Preservation Task Force

X. Preserve America Program Status Report

XI. Chairman's Report

A. ACHP Alumni Foundation

B. Legislative Issues

1. ACHP Reauthorization Legislation

2. ACHP FY 2006 Appropriation

XII. Executive Director's Report

XIII. New Business

XIV. Adjourn

Note: The meetings of the ACHP are open to the public. If you need special accommodations due to a disability, please contact the Advisory Council on Historic Preservation, 1100 Pennsylvania Avenue, NW., Washington, DC, 202-606-8503, at least seven (7) days prior to the meeting.

FOR FURTHER INFORMATION CONTACT: Additional information concerning the meeting is available from the Executive Director, Advisory Council on Historic Preservation, 1100 Pennsylvania Avenue, NW., #809, Washington, DC 20004.

Dated: July 27, 2005.
John M. Fowler,
Executive Director.

[FR Doc. 05-15174 Filed 8-1-05; 8:45 am]

BILLING CODE 4310-10-M